SMALL BUSINESS ADMINISTRATION

[Declaration of Disaster #3310]

State of Alabama; Amendment #1

In accordance with notices received from the Federal Emergency Management Agency, dated December 22 and December 28, 2000, the above-numbered Declaration is hereby amended to include Cherokee and Jefferson Counties in the State of Alabama as a disaster area due to damages caused by severe storms and tornadoes, and to establish the incident period for this disaster as beginning on December 16, 2000 and continuing through December 22, 2000.

In addition, applications for economic injury loans from small businesses located in the following contiguous counties may be filed until the specified date at the previously designated location: Cleburne County, Alabama, and the counties of Chattooga, Floyd, and Polk in the State of Georgia. All other contiguous counties have been previously declared.

All other information remains the same, i.e., the deadline for filing applications for physical damage is February 16, 2001 and for economic injury the deadline is September 18, 2001.

(Catalog of Federal Domestic Assistance Program Nos. 59002 and 59008)

Dated: January 3, 2001.
Herbert L. Mitchell,
Acting Associate Administrator for Disaster Assistance.

[FR Doc. 01-908 Filed 1-10-01; 8:45 am]

BILLING CODE 8025-01-P